SECURITIES AND EXCHANGE COMMISSION

[OMB Control No. 3235-0554]

Agency Information Collection Activities; Proposed Collection; Comment Request; Extension: Rule 6a-4, Form 1-N

Upon Written Request, Copies Available From: Securities and Exchange Commission, Office of FOIA Services, 100 F Street NE, Washington, DC 20549-2736

Notice is hereby given that, pursuant to the Paperwork Reduction Act of 1995 (44 U.S.C. 3501 et seq.), the Securities and Exchange Commission (SEC or “Commission”) is soliciting comments on the proposed collection of information provided for in Rule 6a-4 and Form 1-N, summarized below. The Commission plans to submit this existing collection of information to the Office of Management and Budget for extension and approval. The Code of Federal Regulation citation to this collection of information is 17 CFR 240.6a-4 and 17 CFR 249.10 under the Securities Exchange Act of 1934 (15 U.S.C. 78a et seq.) (the “Act”).

Section 6 of the Act ¹ sets out a framework for the registration and regulation of national securities exchanges. Under the Commodity Futures Modernization Act of 2000, a futures market may trade security futures products by registering as a national securities exchange. Rule 6a-4 ² sets forth these registration procedures and directs futures markets to submit a notice registration on Form 1-N.³ Form 1-N calls for information regarding how the futures market operates, its rules and procedures, corporate governance, its criteria for membership, its subsidiaries and affiliates, and the security futures products it intends to trade. Rule 6a-4 also requires entities that have submitted an initial Form 1-N to file: (1) amendments to Form 1-N in the event of material changes to the information provided in the initial Form 1-N; (2) periodic updates of certain information provided in the initial Form 1-N; (3) certain information that is provided to the futures market's members; and (4) a monthly report summarizing the futures market's trading of security futures products. The information required to be filed with the Commission pursuant to Rule 6a-4 is designed to enable the Commission to carry out its statutorily mandated oversight functions and to ensure that registered and exempt exchanges continue to be in compliance with the Act.

¹ 15 U.S.C. 78f.

² 17 CFR 240.6a-4.

³ 17 CFR 249.10.

The respondents to the collection of information are futures markets.

The Commission estimates that the total annual burden for all respondents to provide periodic amendments to keep the Form 1-N accurate and up to date as required under Rule 6a-4(b)(1) would be 45 hours (15 hours/respondent per year × 3 respondents) and $327 of miscellaneous clerical expenses. The Commission estimates that the total annual burden for all respondents to provide annual amendments under Rule 6a-4(b)(3) would be 45 hours (15 hours/respondent/year × 3 respondents) and $327 of miscellaneous clerical expenses. The Commission estimates that the total annual burden for all respondents to provide three-year amendments under Rule 6a-4(b)(4) would be 20 hours (20 hours/respondent × 1 respondents per year) and $145 in miscellaneous clerical expenses. The Commission estimates that the total annual burden for the filing of the supplemental information and the monthly reports required under Rule 6a-4(c) would be 18 hours (6 hours/respondent per year × 3 respondents) and $196.20 of miscellaneous clerical expenses. Thus, the Commission estimates the total annual burden for complying with Rule 6a-4 is 128 hours and $995.20 in miscellaneous clerical expenses.

Compliance with Rule 6a-4 is mandatory. Information received in response to Rule 6a-4 shall not be kept confidential; the information collected is public information.

An agency may not conduct or sponsor, and a person is not required to respond to, a collection of information unless it displays a currently valid OMB Control Number.

Written comments are invited on: (a) whether this proposed collection of information is necessary for the proper performance of the functions of the SEC, including whether the information will have practical utility; (b) the accuracy of the SEC's estimate of the burden imposed by the proposed collection of information, including the validity of the methodology and the assumptions used; (c) ways to enhance the quality, utility, and clarity of the information to be collected; and (d) ways to minimize the burden of the collection of information on respondents, including through the use of automated, electronic collection techniques or other forms of information technology.

Please direct your written comments on this 60-Day Collection Notice to Austin Gerig, Director/Chief Data Officer, Securities and Exchange Commission, c/o Tanya Ruttenberg via email to PaperworkReductionAct@sec.gov by February 23, 2026. There will be a second opportunity to comment on this SEC request following the Federal Register publishing a 30-Day Submission Notice.

Dated: December 19, 2025.
Sherry R. Haywood,
Assistant Secretary.

[FR Doc. 2025-23737 Filed 12-22-25; 8:45 am]

BILLING CODE 8011-01-P